DEPARTMENT OF COMMERCE

International Trade Administration

[A-570-851]

Certain Preserved Mushrooms From the People's Republic of China: Notice of Initiation of Antidumping Duty New Shipper Reviews

AGENCY: Import Administration, International Trade Administration, Department of Commerce.

SUMMARY: The Department of Commerce (the Department) has received two requests for new shipper reviews of the antidumping duty order on certain preserved mushrooms from the People's Republic of China (PRC). See Notice of Antidumping Duty order: Certain Preserved Mushrooms from the People's Republic of China, 64 FR 8310 (February 19, 1999). In accordance with section 751(a)(2)(B) of the Tariff Act of 1930, as amended (the Tariff Act), and 19 CFR 351.214(d) (2008), we are initiating antidumping duty new shipper reviews of Zhejiang Iceman Group Co., Ltd. (Zhejiang Iceman) and Zhangzhou Gangchang Foods Co., Ltd. (Zhangzhou Gangchang). The period of review (POR) of these new shipper reviews is February 1, 2008, through July 31, 2008.

DATES: Effective Date: October 2, 2008.

FOR FURTHER INFORMATION CONTACT: Tyler Weinhold or Robert James, AD/CVD Operations, Office 7, Import Administration, International Trade Administration, U.S. Department of Commerce, 14th Street and Constitution Avenue, NW., Washington, DC 20230, telephone: (202) 482-1121 or (202) 482-0649, respectively.

SUPPLEMENTARY INFORMATION:

Background

On February 19, 1999, the Department published the antidumping duty order on certain preserved mushrooms from the PRC. See Notice of Amendment of Final Determination of Sales at Less Than Fair Value and Antidumping Duty Order: Certain Preserved Mushrooms From the People's Republic of China, 64 FR 8308 (February 19, 1999). Thus, the antidumping duty order on certain preserved mushrooms has a February anniversary month and a semiannual anniversary month of August. The Department received a request for new shipper reviews from Zhangzhou Gangchang and Zhejiang Iceman on August 29, 2008. See August 29, 2008, letter from Zhangzhou Gangchang to the Secretary of Commerce requesting a new shipper review; and August 29, 2008, letter from Zhejiang Iceman to the Secretary of Commerce requesting a new shipper review. Therefore, pursuant to 19 CFR 351.214(d), Zhangzhou Gangchang and Zhejiang Iceman both made their requests during the semiannual anniversary month.

Pursuant to section 751(a)(2)(B)(i) of the Tariff Act and 19 CFR 351.214(b), Zhangzhou Gangchang certified that it is both an exporter and producer of the subject merchandise, and that it did not export subject merchandise to the United States during the period of the investigation (POI) (July 1, 1997, through December 31, 1997). See section 751(a)(2)(B)(i)(I) of the Tariff Act and 19 CFR 351.214(b)(2)(i). Likewise, Zhejiang Iceman certified that it is both an exporter and producer of the subject merchandise, and that it did not export subject merchandise to the United States during the POI. Id. Pursuant to section 751(a)(2)(B)(i)(II) of the Tariff Act and 19 CFR 351.214(b)(2)(iii)(A), Zhangzhou Gangchang and Zhejiang Iceman both certified that since the investigation was initiated, they have not been affiliated with any producer or exporter who exported the subject merchandise to the United States during the POI. Because these new shipper reviews involve imports from a non-market economy country, in accordance with 19 CFR 351.214(b)(2)(iii)(B), Zhangzhou Gangchang and Zhejiang Iceman also certified that their export activities are not controlled by the central government. Pursuant to 19 CFR 351.214(b)(2)(iv), Zhangzhou Gangchang and Zhejiang Iceman also submitted documentation establishing the date on which they first shipped the subject merchandise to the United States, the volume of that shipment, and the date of their first sale to an unaffiliated customer in the United States. Zhangzhou Gangchang and Zhejiang Iceman also certified they had no shipments to the United States during the period subsequent to their first shipments.

The Department conducted a Customs database query in an attempt to confirm that Zhangzhou Gangchang's and Zhejiang Iceman's shipments of subject merchandise entered the United States for consumption and that liquidation of such entries had been suspended for antidumping duties. See September 26, 2008, Zhangzhou Gangchang New Shipper Review Initiation Checklist, question 18; and Zhejiang Iceman New Shipper Review Initiation Checklist, question 18. The Department also examined whether U.S. Customs and Border Protection (CBP) confirmed that such entries were made during the new shipper review POR.

Initiation of Review

Based on information on the record and in accordance with section 751(a)(2)(B) of the Act and section 351.214(d) of the Department's regulations, we find that the requests Zhangzhou Gangchang and Zhejiang Iceman submitted meet the statutory and regulatory requirements for initiation of a new shipper review. Accordingly, we are initiating new shipper reviews of the antidumping duty order on certain preserved mushrooms from the People's Republic of China manufactured and exported by Zhangzhou Gangchang and Zhejiang Iceman. These reviews cover the period February 1, 2008 through July 31, 2008. We intend to issue the preliminary results of these reviews no later than 180 days after the date on which this review is initiated, and the final results within 90 days after the date on which we issue the preliminary results. See section 751(a)(2)(B)(iv) of the Act and 19 CFR 351.214(h)(i).

In cases involving non-market economies, the Department requires that a company seeking to establish eligibility for an antidumping duty rate separate from the country-wide rate provide evidence of de jure and de facto absence of government control over the company's export activities. See Notice of Final Determination of Sales at Less Than Fair Value: Bicycles From the People's Republic of China, 61 FR 19026, 19027 (April 30, 1996). Accordingly, we will issue questionnaires to Zhangzhou Gangchang and Zhejiang Iceman, each of which will include a separate rates section. These reviews will proceed if the responses provide sufficient indication that Zhangzhou Gangchang and Zhejiang Iceman are not subject to either de jure or de facto government control with respect to its exports of preserved mushrooms. However, if either Zhangzhou Gangchang or Zhejiang Iceman do not demonstrate eligibility for a separate rates, then the respective company will be deemed not separate from other companies that exported during the POI and the new shipper review will be rescinded as to the company.

On August 17, 2006, the Pension Protection Act of 2006 (H.R. 4) was signed into law. Section 1632 of H.R. 4 temporarily suspends the authority of the Department to instruct CBP to collect a bond or other security in lieu of a cash deposit in new shipper reviews. Therefore, the posting of a bond under section 751(a)(2)(B)(iii) of the Act in lieu of a cash deposit is not available in this case. Importers of certain preserved mushrooms manufactured and exported by Zhangzhou Gangchang and Zhejiang Iceman must continue to pay a cash deposit of estimated antidumping duties on each entry of subject merchandise (i.e., certain preserved mushrooms) at the current PRC-wide rate of 198.63 percent.

Interested parties may submit applications for disclosure under administrative protective order in accordance with 19 CFR 351.305 and 351.306.

This initiation and this notice are issued and published in accordance with section 751(a)(2)(B) of the Act and sections 351.214 and 351.221(c)(1)(i) of the Department's regulations.

Dated: September 26, 2008.
Stephen J. Claeys,
Deputy Assistant Secretary for Import Administration.

[FR Doc. E8-23267 Filed 10-1-08; 8:45 am]

BILLING CODE 3510-DS-P